DEPARTMENT OF VETERANS AFFAIRS

Advisory Committee on Women Veterans; Notice of Meeting

The Department of Veterans Affairs (VA) gives notice under Public Law 92-463 (Federal Advisory Committee Act) that the Advisory Committee on Women Veterans will meet February 19-21, 2008 at 1575 I Street, NW., Washington, DC, from 8:30 a.m.-4:30 p.m., each day. The meeting is open to the public.

The purpose of the Committee is to advise the Secretary of Veterans Affairs regarding the needs of women veterans with respect to health care, rehabilitation, compensation, outreach, and other programs and activities administered by VA designed to meet such needs. The Committee will make recommendations to the Secretary regarding such programs and activities.

On February 19, the agenda will include overviews of the Veterans Health Administration, the Veterans Benefits Administration, the National Cemetery Administration, an update on the 2006 Advisory Committee on Women Veterans report, an update on the activities conducted by the Center for Women Veterans, research, homeless veteran initiatives, and an overview of the Federal Recovery Center. On February 20, the agenda will include discussion of standardized training for health care affiliates and post graduates, discussion of improving outreach to women veterans, and an update on National Center for PTSD Expert Workgroup research—“Best Practice Manual for PTSD Compensation and Pension Examination”. On February 21, the agenda will focus on preparation of the 2008 Advisory Committee on Women Veterans report. The agenda will also include any new issues that the Committee members may introduce.

Any member of the public wishing to attend should contact Ms. Shannon L. Middleton, at the Department of Veterans Affairs, Center for Women Veterans (OOW), 810 Vermont Avenue, NW., Washington, DC 20420. Ms. Middleton may be contacted either by phone at (202) 461-6193, fax at (202) 273-7092, or e-mail at OOW@mail.va.gov. Interested persons may attend, appear before, or file statements with the Committee. Written statements must be filed before the meeting, or within 10 days after the meeting.

Dated: January 11, 2008.
By direction of the Secretary.
E. Philip Riggin
Committee Management Officer.

[FR Doc. 08-126 Filed 1-16-08; 8:45 am]

BILLING CODE 8320-01-M